DEPARTMENT OF HOMELAND SECURITY

Transportation Security Administration

Aviation Security Advisory Committee (ASAC) Meeting

AGENCY: Transportation Security Administration, DHS.

ACTION: Committee Management; Notice of Federal Advisory Committee Meeting.

SUMMARY: The Transportation Security Administration (TSA) will hold a meeting of the Aviation Security Advisory Committee (ASAC) via telephone conference on December 15, 2011, to establish working groups and set the agenda for future activity. This meeting will be open to the public.

DATES: The Committee will meet on Thursday, December 15, 2011, from 1-3:30 p.m. Eastern Standard Time (EST). This meeting may end early if all business is completed.

ADDRESSES: The Committee will meet via telephone conference, on December 15, 2011. There will be 100 teleconference lines to accommodate committee members, staff and public participation. To participate via telephone conference, please contact the person listed in the FOR FURTHER INFORMATION CONTACT section.

FOR FURTHER INFORMATION CONTACT: Dean Walter, ASAC Designated Federal Officer, Transportation Security Administration (TSA-28), 601 12th St. South, Arlington, VA 20598-4028, Dean.Walter@dhs.gov, (571) 227-2645.

SUPPLEMENTARY INFORMATION:

Summary

Notice of this meeting is given under section 10(a)(2) of the Federal Advisory Committee Act, 5 U.S.C. App. (Pub. L. 92-463). ASAC operates under the authority of 46 U.S.C. 70112 and provides advice, consults with, and makes recommendations to the Secretary of Homeland Security, via the Administrator of TSA on matters affecting civil aviation security.

This meeting is open to the public, but participation is limited to 100 telephone lines to accommodate all participants. Members of the public must make advance arrangements to present oral statements at the meeting. The public comment period will be held during the meeting on December 15, 2011, from approximately 3 to 3:30 p.m. EST, depending on the meeting progress. Speakers are requested to limit their comments to two minutes. Please note that the public comment period will end following the last call for comments. Written statements may also be presented to the Committee. Contact the person listed in the FOR FURTHER INFORMATION CONTACT section to register as a speaker or submit written statements no later than December 8, 2011. Anyone in need of assistance or a reasonable accommodation for the meeting should contact the person listed in the FOR FURTHER INFORMATION CONTACT section.

Agenda

The agenda for the meeting is as follows:

(1) Welcome and introductions

(2) Charter and By Laws

(3) Overview of aviation security

(4) Presentations:

a. Risk-based screening

b. General Aviation airport security guidelines

c. Air Cargo security update

(5) Working group formation; areas for consideration

(6) Public comments

(7) Discussion of topics for future meetings and next steps

(8) Closing statements

Issued in Arlington, Virginia, on November 22, 2011.
John P. Sammon,
Assistant Administrator, Transportation Sector Network Management.

[FR Doc. 2011-30558 Filed 11-25-11; 8:45 am]

BILLING CODE 9110-05-P